LEGAL SERVICES CORPORATION

Sunshine Act Meetings of the Board of Directors and of the Board's Finance Committee

Times and Dates: The Legal Services Corporation Board of Directors and of the Board's Finance Committee will meet on September 18, 2006, in the order set forth below. The Board meeting will immediately follow the Finance Committee meeting.

Meeting Schedule
Monday, September 18, 2006 | Time
1. Finance Committee | 1 p.m.
2. Board of Directors | Upon conclusion of the Finance Committee meeting.

Location: The Legal Services Corporation, 3rd Floor Conference Center, 3333 K Street, NW., Washington, DC.

Status of Meetings: Open, except as noted below.

• Status: Board of Directors Meeting—Open, except that a portion of the meeting of the Board of Directors may be closed to the public pursuant to a vote of the Board of Directors. At the closed session, the Board will receive briefings ¹ from the Inspector General on the status of the investigation of California Rural Legal Assistance (CRLA) and the investigation requested by Congressmen Enzi, Grassley and Cannon, and from LSC management on CRLA referral issues.

¹ Any portion of the closed session consisting solely of staff briefings does not fall within the Sunshine Act's definition of the term “meeting” and, therefore, the requirements of the Sunshine Act do not apply to such portion of the closed session. 5 U.S.C. 552(b)(a)(2) and (b). See also 45 CFR 1622.2 & 1622.3.

Matters to be Considered:

Monday, September 18, 2006

Finance Committee; Agenda

1. Approval of agenda.

2. Approval of the minutes of the Committee's meeting of July 29, 2006.

3. Presentation of the Financial Report through July 31, 2006.

4. Consider and act on the LSC FY 2008 Budget Request.

a. Presentation by ABA.

b. Presentation by NLADA.

c. Presentation by LSC Management.

d. Presentation by OIG.

e. Other Public Comment.

5. Consider and act on other business.

6. Consider and act on adjournment.

Board of Directors; Agenda

Open Session

1. Approval of agenda.

2. Approval of minutes of the Board's meeting of July 29, 2006.

3. Approval of minutes of the Executive Session of the Board's meeting of July 29, 2006.

4. Staff report on document requests dated April 12, 2006, June 19, 2006 and August 8, 2006 that were received from Congress and LSC's responses thereto.

5. Staff report on the CBS News story of August 13, 2006 and the Associated Press story of August 14, 2006 and LSC's response(s) thereto.

6. Chairman's report.

7. Consider and act on report of the Board's Finance Committee.

8. Consider and act on other business.

9. Public comment.

10. Consider and act on whether to authorize non-public briefings of the Board as per the items listed below under Closed Session.

Closed Session

11. Briefing by the OIG on status of CRLA investigation.

12. Briefing by management on CRLA referral issues.

13. Briefing by the OIG on status of investigation requested by Chairmen Enzi, Grassley and Cannon.

14. Consider and act on motion to adjourn meeting.

FOR FURTHER INFORMATION CONTACT: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: September 8, 2006.
Victor M. Fortuno,
Vice President for Legal Affairs, General Counsel & Corporate Secretary.

[FR Doc. 06-7619 Filed 9-8-06; 1:57 pm]

BILLING CODE 7050-01-P